DEPARTMENT OF THE INTERIOR

Minerals Management Service

Outer Continental Shelf, Gulf of Mexico Region, Proposed Central and Western Planning Area Multisale Environmental Impact Statement

AGENCY: Minerals Management Service, Interior.

ACTION: Notice of availability of the Final Environmental Impact Statement on Proposed Central Planning Area Oil and Gas Lease Sales 185, 190, 194, 198, and 201, and Proposed Western Planning Area Sales 187, 192, 196, and 200.

SUMMARY: In accordance with the National Environmental Policy Act (NEPA), the Minerals Management Service (MMS) has prepared an environmental impact statement (EIS) for nine proposed areawide oil and gas lease sales in the Central Planning Area (CPA) and Western Planning Area (WPA) of the Gulf of Mexico (GOM) Outer Continental Shelf (OCS).

FOR FURTHER INFORMATION CONTACT: Minerals Management Service, Gulf of Mexico OCS Region, 1201 Elmwood Park Boulevard, New Orleans, Louisiana 70123-2394, Mr. Joseph Christopher, telephone (504) 736-2774.

SUPPLEMENTARY INFORMATION: This EIS addresses nine proposed Federal actions that offer for lease areas on the GOM OCS that may contain economically recoverable oil and gas resources. Federal regulations allow for several related or similar proposals to be analyzed in one EIS (40 CFR 1502.4). Since each lease sale proposal and projected activities are very similar each year for each planning area, a single EIS is being prepared for nine Central and Western Gulf sales scheduled in the proposed Outer Continental Shelf Oil and Gas Leasing Program: 2002-2007 (the proposed 5-Year Program). Under the proposed 5-Year Program, five annual areawide lease sales are scheduled for the CPA and five annual areawide lease sales are scheduled for the WPA. The first proposed lease sale—Western Gulf Sale 184—was not addressed in this multisale EIS; a separate environmental analysis was prepared for that proposal. The Central Gulf sales addressed in this EIS are Sale 185 in 2003, Sale 190 in 2004, Sale 194 in 2005, Sale 198 in 2006, and Sale 201 in 2007. The Western Gulf sales are Sale 187 in 2003, Sale 192 in 2004, Sale 196 in 2005, and Sale 200 in 2006. Although this EIS addresses nine proposed lease sales, at the completion of this EIS process, decisions will be made only for proposed Sale 185 in the CPA and proposed Sale 187 in the WPA. Additional NEPA reviews will be conducted for each of the subsequent lease sales to ensure that the most current information is used in each decision process.

EIS Availability: You may find out which local libraries along the Gulf Coast have copies of the Final EIS for review, or you may obtain single copies of the Final EIS by contacting the Minerals Management Service, Gulf of Mexico OCS Region, Attention: Public Information Office (Mail Stop 5034), 1201 Elmwood Park Boulevard, Room 114, New Orleans, Louisiana 70123-394, or by calling 1-800-200-GULF. You may request a Final EIS or check the list of libraries and their locations on the MMS Web site at http://www.gomr.mms.gov.

Dated: October 8, 2002.
Thomas A. Readinger,
Associate Director for Offshore Minerals Management.
Dated: October 10, 2002.
Willie R. Taylor,
Director, Office of Environmental Policy and Compliance.

[FR Doc. 02-28557 Filed 11-8-02; 8:45 am]

BILLING CODE 4310-MR-P